DEPARTMENT OF JUSTICE

Bureau of Alcohol, Tobacco, Firearms, and Explosives

[OMB Number 1140-0016]

Agency Information Collection Activities: Proposed collection; Comments Requested; Application for Registration of Firearms Acquired by Certain Governmental Entities

ACTION: Correction to 30-day notice.

This is a correction to a 60 day notice that published, in the Federal Register volume 76, number 176 on Monday, September 12, 2011, pages 56223-56224, which was incorrect. It should have published as a 30 day notice. The 60 day Federal Register notice has previously published in the Federal Register, as stated below.

The Department of Justice (DOJ), Bureau of Alcohol, Tobacco, Firearms, and Explosives (ATF) will be submitting the following information collection request to the Office of Management and Budget (OMB) for review and approval in accordance with the Paperwork Reduction Act of 1995. The proposed information collection is published to obtain comments from the public and affected agencies. This proposed information collection was previously published in the Federal Register Volume 76, Number 130, page 39900 on July 7, 2011, allowing for a 60 day comment period.

The purpose of this notice is to allow for an additional 30 days for public comment until October 17, 2011. This process is conducted in accordance with 5 CFR 1320.10.

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Gary Schaible at 202-648-7165 or the DOJ Desk Officer at 202-395-3176.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Summary of Information Collection

(1) Type of Information Collection: Extension of a currently approved collection.

(2) Title of the Form/Collection: Application for Registration of Firearms Acquired by Certain Governmental Entities.

(3) Agency form number, if any, and the applicable component of the Department of Justice sponsoring the collection: Form Number: ATF F 10 (5320.10). Bureau of Alcohol, Tobacco, Firearms and Explosives.

(4) Affected public who will be asked or required to respond, as well as a brief abstract: Primary: State, local or tribal Government. Other: None.

Need for Collection

The form is required to be submitted by State and local government entities wishing to register an abandoned or seized and previously unregistered National Firearms Act weapon. The form is required whenever application for such a registration is made.

(5) An estimate of the total number of respondents and the amount of time estimated for an average respondent to respond: There are an estimated 1,500 respondents, who will complete the form within approximately 30 minutes.

(6) An estimate of the total burden (in hours) associated with the collection: There are an estimated 3000 total burden hours associated with this collection.

If Additional Information is Required Contact: Jerri Murray, Department Clearance Officer, United States Department of Justice, Policy and Planning Staff, Justice Management Division, Two Constitution Square, 145 N Street, NE., Room 2E-508, Washington, DC 20530.

Jerri Murray,
Department Clearance Officer, PRA, United States Department of Justice.

[FR Doc. 2011-23730 Filed 9-15-11; 8:45 am]

BILLING CODE 4410-FY-P